DEPARTMENT OF HEALTH AND HUMAN SERVICES

Centers for Disease Control and Prevention

[30Day-25-0036]

Agency Forms Undergoing Paperwork Reduction Act Review

In accordance with the Paperwork Reduction Act of 1995, the Centers for Disease Control and Prevention (CDC) has submitted the information collection request titled “Division of Vital Statistics Proposal for Access to Restricted-Use Vital Statistics Data for the National Center for Health Statistics” to the Office of Management and Budget (OMB) for review and approval. CDC previously published a “Proposed Data Collection Submitted for Public Comment and Recommendations” notice on June 16, 2025, to obtain comments from the public and affected agencies. CDC received two comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Division of Vital Statistics Proposal for Access to Restricted-Use Vital Statistics Data for the National Center for Health Statistics—Existing Collection in Use Without an OMB Control Number—National Center for Health Statistics (NCHS), Centers for Disease Control and Prevention (CDC).

Background and Brief Description

This is a request for OMB Clearance for the Division of Vital Statistics (DVS) Proposal for Access to Restricted-Use Vital Statistics Data for the National Center for Health Statistics. A three-year clearance is requested. The DVS Proposal has been in use since 1998. Recently, as part of the Evidence Act work to develop and implement a federal government-wide Standard Application Process (see 44 U.S.C. 3583) and through OMB consultation, the NCHS DVS became aware that the DVS proposal was, in fact, an information collection initiative. The NCHS DVS recognizes this and is therefore submitting this OMB clearance package to correct this oversight and obtain OMB approval.

This proposed information collection of information is designed to help facilitate review of the agency's research and will allow the National Center for Health Statistics (NCHS) to determine whether a research study requires access to confidential data. NCHS anticipates it will receive approximately 600 proposals annually. CDC requests OMB approval for an estimated 600 annual burden hours. There is no cost to respondents other than their time to participate.

Estimated Annualized Burden Hours
Type of respondents | Form name | Number of respondents | Number of responses per respondent | Average burden per response (in hours)
Researchers | NCHS Restricted Vital Statistics Data Request Application Form | 600 | 1 | 1

Jeffrey M. Zirger,
Lead, Information Collection Review Office, Office of Public Health Ethics and Regulations, Office of Science, Centers for Disease Control and Prevention.

[FR Doc. 2025-20577 Filed 11-20-25; 8:45 am]

BILLING CODE 4163-18-P